JUDICIAL CONFERENCE OF THE UNITED STATES

Hearings of the Judicial Conference Advisory Committee on the Federal Rules of Bankruptcy Procedure

AGENCY: Advisory Committee on the Federal Rules of Bankruptcy Procedure, Judicial Conference of the United States.

ACTION: Notice of cancellation of public hearing.

SUMMARY: The following public hearing on proposed amendments to the Federal Rules of Bankruptcy Procedure has been canceled: Bankruptcy Rules Hearing on January 29, 2016, in Pasadena, California. Announcements for this meeting were previously published in 80 FR 48120, 80 FR 50324 and 80 FR 51604.

FOR FURTHER INFORMATION CONTACT: Rebecca A. Womeldorf, Rules Committee Secretary, Rules Committee Support Office, Administrative Office of the United States Courts, Washington, DC 20544, telephone (202) 502-1820.

Dated: January 4, 2016.
Rebecca A. Womeldorf,
Rules Committee Secretary.

[FR Doc. 2016-00037 Filed 1-6-16; 8:45 am]

BILLING CODE 2210-55-P